DEPARTMENT OF HEALTH AND HUMAN SERVICES

Centers for Disease Control and Prevention

[30-Day-13-0870]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call (404) 639-7570 or send an email to omb@cdc.gov. Send written comments to CDC Desk Officer, Office of Management and Budget, Washington, DC or by fax to (202) 395-5806. Written comments should be received within 30 days of this notice.

Proposed Project

Monitoring and Reporting System for Chronic Disease Prevention and Control Programs (OMB No. 0920-0870, exp. 11/30/2013)—Revision—National Center for Chronic Disease Prevention and Health Promotion (NCCDPHP), Centers for Disease Control and Prevention (CDC).

Background and Brief Description

CDC requests OMB approval to continue the collection of information from tobacco control program awardees funded through cooperative agreement DP09-901, Collaborative Chronic Disease, Health Promotion, and Surveillance Program Announcement: Healthy Communities, Tobacco Control, Diabetes Prevention and Control, and Behavioral Risk Factor Surveillance System. These cooperative agreements will end on March 28, 2014, and final reports on awardee activities are due to CDC approximately 90 days after the end of the funding period. OMB approval is requested for one year to allow submission of progress reports relating to the final year of funding under the current cooperative agreement.

Fifty-three awardees which consist of state departments of health in the 50 States, the District of Columbia, Puerto Rico, and the Virgin Islands will continue to submit semi-annual progress reports through a Web-based management information system (MIS). There are no changes to the number of tobacco control program respondents, the content of the information collection, the frequency of information collection, or the estimated burden per response. However, the total estimated burden hours will decrease due to discontinuation of reporting requirements for three program components that were originally funded under the DP09-901 cooperative agreement: diabetes prevention and control, state BRFSS activities, and Healthy Communities. Due to organizational and funding changes within CDC, funding for these program components was discontinued under the DP09-901 cooperative agreement and semi-annual reports are no longer required.

CDC will continue to collect information about each awardee's tobacco control objectives, planning, activities, resources, partnerships, strategies, and progress toward meeting objectives. Awardees will use the information reported through the electronic MIS to manage and coordinate their activities and to improve their efforts. CDC will use the information reported through the MIS to document and monitor each awardee's progress and to make adjustments, as needed, in the type and level of technical assistance provided to them. The information collection allows CDC to oversee the use of federal funds, and identify and disseminate information about successful strategies implemented by awardees. CDC also uses the information to respond to Congressional and stakeholder inquiries about awardee activities, program implementation, and program impact.

Progress reporting through the MIS is required for cooperative agreement awardees. There are no costs to respondents other than their time. The total estimated burden hours are 636.

Estimated Annualized Burden Hours
Type of respondents | Form name | Number of respondents | Number of responses per respondent | Average burden per response (in hours)
State Tobacco Control Program | Management Information System | 53 | 2 | 6

Kimberly S. Lane,
Deputy Director, Office of Scientific Integrity, Office of the Associate Director for Science, Office of the Director, Centers for Disease Control and Prevention.

[FR Doc. 2013-23838 Filed 9-30-13; 8:45 am]

BILLING CODE 4163-18-P